ENVIRONMENTAL PROTECTION AGENCY

[OW-2003-0027, FRL-7496-3]

Agency Information Collection Activities: Proposed Collection; Comment Request; State Water Quality Program Management Resource Analysis

AGENCY: Environmental Protection Agency.

ACTION: Notice.

SUMMARY: In compliance with the Paperwork Reduction Act (44 U.S.C. 3501 et seq.), this document announces that EPA is planning to submit the following continuing Information Collection Request (ICR) to the Office of Management and Budget (OMB): State Water Quality Program Management Resource Analysis, ICR Number: 1945.02, OMB Control Number: 2040-0216, Current Expiration Date: September 30, 2003. Before submitting the ICR to OMB for review and approval, EPA is soliciting comments on specific aspects of the proposed information collection as described below.

DATES: Comments must be submitted on or before July 7, 2003.

ADDRESSES: Follow the detailed instructions in SUPPLEMENTARY INFORMATION.

FOR FURTHER INFORMATION CONTACT: Jane Ephremides, Resources Management and Evaluation Staff, Office of Wastewater Management, Office of Water, Mail Code: 4201M, Environmental Protection Agency, 1200 Pennsylvania Ave., NW., Washington, DC 20460; telephone number: (202) 564-0643; fax number: (202) 501-2399; email address: ephremides.jane@epa.gov.

SUPPLEMENTARY INFORMATION: EPA has established a public docket for this ICR under Docket ID number OW-2003-0027, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA and OMB within 60 days of this notice, and according to the following detailed instructions: (1) Submit your comments to EPA online using EDOCKET (our preferred method), by email to: ow-docket@epa.gov, or by mail to: EPA Docket Center, Environmental Protection Agency, Water Docket, Mail Code: 4101T, 1200 Pennsylvania Ave., NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are State governments.

Title: State Water Quality Program Management Resource Analysis (OMB Control Number 2040-0216; EPA ICR Number 1945.02 expiring 09/30/2003.

Abstract: The Environmental Protection Agency (EPA), in partnership with States, is conducting the State Water Quality Management Resource Analysis (Gap Analysis) to help enumerate current and future funding needs and to help identify innovative strategies for reducing resource gaps. To gather preliminary information in a short time frame, the Gap Analysis was originally divided into two phases. Phase I consisted of the development of an initial, national estimate of the resource gap faced by water quality management programs to provide a general idea of the magnitude of the resource gap faced by States.

Phase II of the Gap Analysis involved developing a detailed, activity-based workload model to provide a common framework and consistent methodology for States and EPA to estimate the cost to the States to meet the objectives of the Clean Water Act (CWA) over the next five years. In order to complete the model, EPA's Office of Wastewater Management (OWM) gathered data from 21 States on current and future resources needed for water quality management activities.

Phase III of the Gap Analysis will build upon the information collected in Phase II, which used an estimate of current State expenditures on water quality activities. Under Phase III, States will complete a portion of the Phase II modules to update the needs numbers to reflect regulatory changes or changes to their programs. In addition, States will be asked to complete an activity-based model for current expenditures that mirrors the model for needs. This baseline spending data will allow the States and EPA to more accurately estimate the gap between expenditures and needed resources.

Phase III of the Gap Analysis is a one-time collection effort by OWM, and responses to this information collection request (ICR) are voluntary. The collection is necessary to develop an estimate of the gap in resources facing water quality management programs, both for individual States and the nation.

An agency may not conduct or sponsor, and a person is not required to respond to, a collection of information unless it displays a currently valid OMB control number. The OMB control numbers for EPA's regulations are listed in 40 CFR part 9 and 48 CFR chapter 15.

EPA is asking States to provide estimates of current spending and resource needs for water quality management program activities. EPA will provide the States with integrated modules (the Gap Analysis model) designed to capture current expenditures, current needs, and future needs to perform all activities associated with the development, planning, coordination, management, and implementation of State water quality management programs.

Each module contains lists of activities in each of the program areas. The modules will be integrated so that estimates for various program areas can be combined into a total estimate across all program areas.

To reduce the burden of the collection, the Gap Analysis model is designed to maximize State flexibility. It contains default values developed for the national estimate of the resource needs faced by State water quality management programs. Respondents can accept the default values or enter an appropriate value for their State. If the default value is altered, the change will cascade throughout the rest of the module.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The total number of respondents for this ICR is estimated to be twenty State agencies. The total number of responses for each respondent is one, which averages to 0.33 responses per respondent annually. EPA estimates the burden to be $1,893 and 61 hours per respondent for each respondent that chooses to submit information. For the three-year ICR period, the average annual respondent burden and cost to States and EPA is estimated at 1,353 hours and $46,068. The annual burden and cost to State governments is estimated at 1,207 hours and $37,648. No capital costs, recordkeeping burden, or operation and maintenance (O&M) costs are associated with this ICR.

State labor costs are estimated by applying an hourly labor rate to the burden hour estimates. For purposes of calculating State labor costs, EPA assumed a single average hourly wage rate of $31.20 per hour for all State activities, which is consistent with other recent OWM ICR submittals. This rate is based on the average hourly wage for State employees, as determined by the U.S. Department of Labor, and includes benefits. As in previous ICRs, 50 percent overhead costs were added to the average State rate.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 1, 2003.
James A. Hanlon,
Director, Office of Wastewater Management.

[FR Doc. 03-11475 Filed 5-7-03; 8:45 am]

BILLING CODE 6560-50-P